DEPARTMENT OF COMMERCE

National Oceanic and Atmospheric Administration

[I.D. 100406C]

New England Fishery Management Council; Public Meeting

AGENCY: National Marine Fisheries Service (NMFS), National Oceanic and Atmospheric Administration (NOAA), Commerce.

ACTION: Notice of public meetings.

SUMMARY: The New England Fishery Management Council (Council) is scheduling a public meetings of its Monkfish Advisory Panel and Monkfish Oversight Committee in October and November, 2006, to consider actions affecting New England fisheries in the exclusive economic zone (EEZ). Recommendations from these groups will be brought to the full Council for formal consideration and action, if appropriate.

DATES: These meetings will be held on Tuesday, October 31, 2006, at 9:30 a.m. and Wednesday, November 1, 2006, at 9:30 a.m.

ADDRESSES: These meetings will be held at the Sheraton Ferncroft, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The schedule and agenda for the following meetings are as follows:

1. Tuesday, October 31, 2006; Monkfish Advisory Panel meeting.

The advisory panel will review the draft Framework Adjustment 4 documents and analyses and make recommendations to the Monkfish Committee and the Councils for final measures to be adopted at the November New England Council meeting and the December Mid-Atlantic Council meeting, and subsequently submitted to the National Marine Fisheries Service. Framework 4 includes alternatives for target total allowable catch (TAC) alternatives and associated trip limits and days-at-sea (DAS) alternatives for the final three years of the monkfish rebuilding program starting May 1, 2007. Framework 4 also contains other alternatives including eliminating the directed fishery; backstop provisions to ensure that management measures achieve the target TAC on an ongoing basis; modification or elimination of the DAS carryover provision; and modification of the boundary of the North Carolina/Virginia area monkfish fishery. Following the completion of the Framework 4 business, the advisors will discuss and make recommendations to the Monkfish Committee on possible adjustment to the monkfish incidental catch limit on scallop vessels fishing in the scallop closed area access programs. The advisors will also discuss and outline the issues related to the development of a monkfish DAS leasing program.

2. Wednesday, November 1, 2006; Monkfish Oversight Committee meeting.

The Committee will review the draft Framework Adjustment 4 documents and analyses and the recommendations of the Monkfish Advisory Panel and finalize recommendations for measures to be adopted at the November New England Council meeting and the December Mid-Atlantic Council meeting and subsequently submitted to the National Marine Fisheries Service. Framework 4 includes alternatives for target total allowable catch (TAC) alternatives and associated trip limits and days-at-sea alternatives for the final three years of the monkfish rebuilding program starting May 1, 2007. Framework 4 also contains other alternatives including eliminating the directed fishery; backstop provisions to ensure that management measures achieve the target TACs on an ongoing basis; modification or elimination of the DAS carryover provision and modification of the boundary of the North Carolina/Virginia area monkfish fishery. Following the completion of the Framework 4 business, the Committee will discuss and make recommendations to the Councils on possible adjustment to the monkfish incidental catch limit on scallop vessels fishing in the scallop closed area access programs. The Committee will also review comments and recommendations of the Advisory Panel on the development of a monkfish DAS leasing program.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: October 5, 2006.
Tracey L. Thompson,
Acting Director, Office of Sustainable Fisheries, National Marine Fisheries Service.

[FR Doc. E6-16786 Filed 10-10-06; 8:45 am]

BILLING CODE 3510-22-S